PEACE CORPS

Proposed New Information Collection Requests Under OMB Review

AGENCY: Peace Corps.

ACTION: Notice of public use form review request to the Office of Management and Budget (OMB).

SUMMARY: The Peace Corps Office of Communications invites comments on the information collection request as required pursuant to the Paperwork Reduction Act of 1981 (44 U.S.C. Chapter 35). This notice announces that the Peace Corps Office of Communications has submitted to the Office of Management and Budget a request to approve the use of: PC-836, Peace Corps 50th Anniversary Archive Submission Form (On-line Version) (06/2008); PC-837, 50th Anniversary Archive Project Material Submission Authorization and Agreement (Print Version) (06/2008); PC-839, 50th Anniversary Archive Submission Guidelines (06/2008); and PC-841, 50th Anniversary Archive (Print Version) (06/2008). The purpose of this notice is to allow for comments on whether the proposed collection of information is necessary for proper performance of the functions of the Peace Corps' Office of Communications; including whether the information will have practical use; the accuracy of the agency's estimate of the burden of the proposed collection of information, including the validity of the methodology and assumptions used; ways to enhance the quality, utility, and clarify of the information to be collected; and ways to minimize the burden of the collection of information to on those who are to respond, including through the use of automated collection techniques, when appropriate, and other forms of technology. The initial Federal Register notice was published on July 2, 2008, Volume 73, No. 128, pgs. 37997-37998 for 60 days. Also available at GPO Access: wais.access.gpo.gov. No comments, inquiries or responses to the notice were received. Comments may be directed to: Stacia Clifton, 50th Anniversary Archive Project Manager, Peace Corps, Office of Communications, 1111 20th Street, NW., Washington, DC 20256. Ms. Clifton can also be contacted by telephone at 202-692-2234 or by e-mail at archive@peacecorps.gov. Comments should be received on or before September 22, 2008.

Information Collection Abstract

Title: 50th Anniversary Archive Submission Form.

Need for and Use of This Information: The Peace Corps is collecting contact information, stories, photos and historical documents related to their Peace Corps service from Returned Peace Corps Volunteers. Submissions will be received electronically through an online submission form. The information will be used in informational and promotional articles, exhibits and events celebrating the history of the Peace Corps.

Respondents: Returned Peace Corps Volunteers.

Respondents' Obligation to Reply: Voluntary.

Burden on the Public:

a. Annual reporting burden: 250 hours.

b. Annual record keeping burden: 50 hours.

c. Estimated average burden per response: 15 minutes.

d. Frequency of response: One-time.

e. Estimated number of respondents: 3000.

f. Estimated cost to respondents: $0.00/$0.00.

Dated: August 15, 2008.
Wilbert Bryant,
Associate Director for Management.

[FR Doc. E8-19511 Filed 8-21-08; 8:45 am]

BILLING CODE 6051-01-P